NUCLEAR REGULATORY COMMISSION

[NRC-2017-0079]

Quality Assurance Program Criteria (Design and Construction)

AGENCY: Nuclear Regulatory Commission.

ACTION: Regulatory guide; issuance.

SUMMARY: The U.S. Nuclear Regulatory Commission (NRC) is issuing Revision 5 to Regulatory Guide (RG) 1.28, “Quality Assurance Program Criteria (Design and Construction).” This regulatory guide (RG 1.28) updates the guidance to endorse, with clarification or exceptions, multiple revisions of the American Society of Mechanical Engineers standard NQA-1 titled “Quality Assurance Requirements for Nuclear Facility Applications.” The proposed revision describes methods that the NRC considers acceptable for establishing and implementing a quality assurance (QA) program for the design and construction of nuclear power plants and fuel reprocessing plants.

DATES: Revision 5 to RG 1.28 is available on October 19, 2017.

ADDRESSES: Please refer to Docket ID NRC-2017-0079 when contacting the NRC about the availability of information regarding this document. You may obtain publicly-available information related to this document using any of the following methods:

• Federal Rulemaking Web site: Go to http://www.regulations.gov and search for Docket ID NRC-2017-0079. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The RG is available in ADAMS under Accession No. ML17207A293.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Ashley Ferguson, Office of New Reactors, telephone: 301-415-6638, email: Ashley.Ferguson@nrc.gov, and Stephen Burton, Office of Nuclear Regulatory Research, telephone: 301-415-7000, email: Stephen.Burton@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 5 of RG 1.28 was issued with a temporary identification of Draft Regulatory Guide, DG-1326. This revision of the guide (Revision 5) updates the guidance to endorse, with clarification or exceptions, multiple revisions of the American Society of Mechanical Engineers standard NQA-1 titled “Quality Assurance Requirements for Nuclear Facility Applications.”

II. Additional Information

The NRC published a notice of the availability of DG-1326 in the Federal Register on March 27, 2017 (82 FR 15242), for a 60-day public comment period. The public comment period closed on May 26, 2017. Public comments on DG-1326 and the staff responses to the public comments are available in ADAMS under Accession No. ML17207A289.

III. Congressional Review Act

This RG is a rule as defined in the Congressional Review Act (5 U.S.C. 801-808). However, the Office of Management and Budget has not found it to be a major rule as defined in the Congressional Review Act.

IV. Backfitting and Issue Finality

This RG 1.28 describes methods that the NRC considers acceptable for establishing and implementing a QA program for the design and construction of nuclear power plants and fuel reprocessing plants. Issuance of this RG does not constitute backfitting as defined in § 50.109 of title 10 of the Code of Federal Regulations (10 CFR), (the Backfit Rule) and is not otherwise inconsistent with the issue finality provisions in part 52. As discussed in the “Implementation” section of this RG, the NRC has no current intention to impose this guidance on holders of current operating licenses or combined licenses.

This RG may be applied to applications for operating licenses, combined licenses, early site permits, and certified design rules docketed by the NRC as of the date of issuance of this RG, as well as future applications submitted after the issuance of the regulatory guide. Such action would not constitute backfitting as defined in the Backfit Rule or be otherwise inconsistent with the applicable issue finality provision in part 52, inasmuch as such applicants or potential applicants are not within the scope of entities protected by the Backfit Rule or the relevant issue finality provisions in part 52.

Dated at Rockville, Maryland, this 13th day of October, 2017.
For the Nuclear Regulatory Commission.
Edward O'Donnell,
Acting Chief, Regulatory Guidance and Generic Issues Branch, Division of Engineering, Office of Nuclear Regulatory Research.

[FR Doc. 2017-22670 Filed 10-18-17; 8:45 am]

BILLING CODE 7590-01-P